POSTAL SERVICE

Sunshine Act Meeting; Board of Governors

Times and Dates: 10:30 a.m., Tuesday, February 7, 2006; 8:30 a.m. and 10 a.m., Wednesday, February 8, 2006.

Place: Washington, DC, at U.S. Postal Service Headquarters, 475 L'Enfant Plaza, SW., in the Benjamin Franklin Room.

Status: February 7—10:30 a.m. (Closed); February 8—8:30 a.m. (Open); February 8—10 a.m. (Closed).

Matters To Be Considered:

Tuesday, February 7 at 10:30 a.m. (Closed)

1. Strategic Planning.

2. Financial Update.

3. Rate Case Planning.

4. Labor Negotiations Planning.

5. Negotiated Service Agreement.

6. Capital Investment—Remote Encoding System.

7. Personnel Matters and Compensation Issues.

Wednesday, February 8 at 8:30 a.m. (Open)

1. Minutes of the Previous Meeting, January 10, 2006.

2. Remarks of the Postmaster General and CEO Jack Potter.

3. Appointment of Members to Board Committees and Committee Reports.

4. Capital Investment—Flats Sequencing System and Delivery Point Packager Research & Development Modification.

5. Quarterly Report on Financial Performance.

6. Tentative Agenda for the March 28, 2006, meeting in Washington, DC.

Wednesday, February 8 at 10 a.m. (Closed) (If Needed)

1. Continuation of Tuesday's closed session agenda.

Contact Person for More Information: William T. Johnstone, Secretary of the Board, U.S. Postal Service, 475 L'Enfant Plaza, SW., Washington, DC 20260-1000. Telephone (202) 268-4800.

William T. Johnstone,
Secretary.

[FR Doc. 06-995 Filed 1-30-06; 3:33 pm]

BILLING CODE 7710-12-M